DEPARTMENT OF DEFENSE

Department of the Air Force

[Docket ID: USAF-2008-0023]

Privacy Act of 1974; System of Records

AGENCY: Department of the Air Force, DoD.

ACTION: Notice to add a system of records.

SUMMARY: The Department of the Air Force is proposing to add a system of records in its inventory of record systems subject to the Privacy Act of 1974 (5 U.S.C. 552a), as amended.

DATES: The changes will be effective on November 24, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted October 9, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 15, 2008.
Patricia Toppings,
OSD Federal Register Liaison Officer, Department of Defense.

F036 AFMC K DoD

System Name:

National Defense Science and Engineering Graduate Fellowship Program Records.

System Location:

American Society for Engineering Education (ASEE), 1818 N Street, NW., Suite 600, Washington, DC 20036-2479.

Categories of individuals covered by the system:

University students (U.S. citizens only) are pursuing graduate degrees in science and engineering fields critical to Department of Defense requirements.

Categories of records in the system:

Individual's name, resident state, mailing address, e-mail address, and telephone numbers, date and place of birth, citizenship, Selective Service registry, undergraduate institution(s), attendance dates, major studies, degree(s) (earned/expected), grade point average (GPA), area of specialization, proposed graduate institution, lists of publications and presentations, awards and honors, professional experiences, scientific and research experiences, leadership experiences, teamwork experiences, professional and academic goals, academic references, Graduate Record Examination (GRE) Registration Number and Test Scores, and university transcripts.

For students awarded and accepting fellowships: Social Security Number (SSN) and bank account number to allow direct deposit of stipends and reporting to the Internal Revenue Service (IRS).

Authority for maintenance of the system:

10 U.S.C. 113, Secretary of Defense; 10 U.S.C. 3013, Secretary of the Army; 10 U.S.C. 5013, Secretary of the Navy; 10 U.S.C. 8013, Secretary of the Air Force; 10 U.S.C. 2191, Graduate fellowships; 32 CFR Part 168a, National Defense Science and Engineering Graduate Fellowships; and E.O. 9397 (SSN).

Purpose:

To maintain documentation of the applications and processes necessary to screen applicants and to evaluate and select the most promising students to award fellowships. Approximately 200 3-year awards are made each year. The American Society for Engineering Education will pay stipends to awardees and tuition to individuals' graduate education institutions for 3 years and maintain records of payments.

Routine uses of records maintained in the system, including categories of users, and purposes of such uses:

In addition to those disclosures generally permitted under 5 U.S.C. 552a(b) of the Privacy Act, these records or information contained therein may specifically be disclosed outside the DoD as a routine use pursuant to 5 U.S.C. 552a(b)(3) as follows:

To American Society for Engineering Education to comply with statutory requirements. This will include information necessary to pay stipends by direct deposit, provide required reports to the IRS and pay tuitions to students' graduate education institutions.

The `Blanket Routine Uses' published at the beginning of the Air Force's compilation of systems of records notices apply to this system.

Policies and practices for storing, retrieving, accessing, retaining, and disposing of records in the system:

Storage:

Paper records in file folders and electronic storage media.

Retrievability:

Individual's name and/or Social Security Number (SSN).

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and Disposal:

Three years for applicant files not awarded fellowships. Ten years for applicant files awarded fellowships. Records are destroyed by incineration and files stored on CD ROMs are shredded.

System manager and address:

Department of Air Force, National Defense Science and Engineering Graduate Fellowship Program Manager, AFRL/AFOSR/PIE, Air Force Office of Scientific Research, 875 North Randolph Street, Suite 325, Room 3112, Arlington, VA 22203-1768.

Notification procedure:

Individuals seeking to determine whether information about themselves is contained in this system should address written inquiries to American Society for Engineering Education, the National Defense Science and Engineering Graduate Fellowship Program, 1818 N St., NW., Washington, DC 20036-2479.

Written requests should contain individual's name, e-mail and mailing address, and bear the signature of the requester.

Record access procedure:

Individuals seeking access to records about themselves contained in the system of records should address written inquiries to American Society for Engineering Education, The National Defense Science and Engineering Graduate Fellowship Program, 1818 N St., NW., Washington, DC 20036-2479.

Written requests should contain individual's name, e-mail and mailing address, and bear the signature of the request.

Contesting records procedures:

The Air Force rules for accessing, and for contesting contents and appealing initial agency determinations are published in Air Force Instruction 33-332, Privacy Act Program; 32 CFR part 806b; or may be obtained from the system manager.

Record source categories:

Individual; information is obtained from applicants, their references, and universities.

Exemptions claimed for the system:

None.

[FR Doc. E8-25273 Filed 10-22-08; 8:45 am]

BILLING CODE 5001-06-P